DEPARTMENT OF TRANSPORTATION

Federal Aviation Administration

14 CFR Part 71

[Docket No. FAA-2013-0806; Airspace Docket No. 13-ASO-21]

Amendment of Class D and Class E Airspace, and Establishment of Class E Airspace; Tri-Cities, TN

AGENCY: Federal Aviation Administration (FAA), DOT.

ACTION: Final rule.

SUMMARY: This action amends Class D and Class E Airspace, and establishes Class E airspace at Tri-Cities Regional Airport, Tri-Cities, TN. Airspace reconfiguration is necessary to alleviate traffic issues in the surrounding area for Johnson City Airport and Edwards Heliport so aircraft can navigate in and out of their respective airports in Visual Flight Rules conditions under 700 feet. This action enhances the safety and airspace management of aircraft within the Tri-Cities, TN area.

DATES: Effective 0901 UTC, July 24, 2014. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On February 12, 2014, the FAA published in the Federal Register a notice of proposed rulemaking (NPRM) to amend Class D airspace and Class E surface area airspace, and establish Class E airspace designated as an extension to Class D airspace at Tri-Cities Regional Airport, Tri-Cities, TN. (79 FR 8360). Interested parties were invited to participate in this rulemaking effort by submitting written comments on the proposal to the FAA. No comments were received.

Class D and E airspace designations are published in paragraphs 5000, 6002, and 6004, respectively of FAA Order 7400.9X dated August 7, 2013, and effective September 15, 2013, which is incorporated by reference in 14 CFR 71.1. The Class D and Class E airspace designations listed in this document will be published subsequently in the Order.

The Rule

This amendment to Title 14, Code of Federal Regulations (14 CFR) part 71 amends Class D airspace and Class E surface area airspace, and establishes Class E airspace designated as an extension to a Class D surface area at Tri Cities Regional Airport, Tri-Cities, TN. Both the Class D airspace area and Class E surface area airspace is reduced from a 6.8-mile radius of the airport to within a 4.3-mile radius of the airport. This action also establishes Class E airspace designated as an extension to a Class D surface area within a 4.3-mile radius of Tri-Cities Airport, with a segment extending from the 4.3-mile radius of the airport to 6.8 miles northeast of the airport. This action alleviates congestion for aircraft traveling to/from two neighboring airports, Edwards Heliport and Johnson City Airport in Visual Flight Rules conditions under 700 feet.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act. The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Tri-Cities, TN, area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9X, Airspace Designations and Reporting Points, dated August 7, 2013, effective September 15, 2013, is amended as follows:

Paragraph 5000 Class D Airspace.

* * * * *

ASO TN D Tri-Cities, TN [Amended]

Tri-Cities Regional Airport, TN/VA

(Lat. 36°28′31″ N., long. 82°24′27″ W.)

That airspace extending upward from the surface to and including 4,000 feet MSL within a 4.3-mile radius of Tri-Cities Regional Airport. This Class D airspace area is effective during the specific days and times established in advance by a Notice to Airmen. The effective days and times will thereafter be continuously published in the Airport/Facility Directory.

Paragraph 6002 Class E Airspace Designated as Surface Areas.

* * * * *

ASO TN E2 Tri-Cities, TN [Amended]

Tri-Cities Regional Airport, TN/VA

(Lat. 36°28′31″ N., long. 82°24′27″ W.)

That airspace extending upward from the surface within a 4.3-mile radius of Tri-Cities Regional Airport. This Class E airspace area is effective during the specific days and times established in advance by a Notice to Airmen. The effective days and times will thereafter be continuously published in the Airport/Facility Directory.

Paragraph 6004 Class E Airspace Designated as an Extension to a Class D Surface Area.

* * * * *

ASO TN E4 Tri-Cities, TN [New]

Tri-Cities Regional Airport, TN/VA

(Lat. 36°28′31″ N., long. 82°24′27″ W.)

That airspace extending from the surface within 2.5-miles either side of the 043° bearing from Tri-Cities Regional Airport, extending from the 4.3-mile radius to 6.8-miles northeast of the airport. This Class E airspace area is effective during specific dates and times established in advance by a Notice to Airmen. The effective date and time will thereafter be continuously published in the Airport/Facility Directory.

Issued in College Park, Georgia, on April 14, 2014.
Myron A. Jenkins,
Manager, Operations Support Group, Eastern Service Center, Air Traffic Organization.

[FR Doc. 2014-09152 Filed 4-23-14; 8:45 am]

BILLING CODE 4910-13-P